COMMISSION ON CIVIL RIGHTS

Agenda and Notice of Public Meeting of the Georgia Advisory Committee

Notice is hereby given, pursuant to the provisions of the rules and regulations of the U.S. Commission on Civil Rights, that a meeting of the Georgia Advisory Committee to the Commission will convene at 1 p.m. and adjourn at 5 p.m. on March 29, 2001, at the Renaissance Atlanta Hotel, 590 West Peachtree Street, NW., Atlanta, Georgia 30308. The purpose of the meeting is to plan the State Symposium on the “Status of Civil Rights in Georgia.”

Persons desiring additional information, or planning a presentation to the Committee, should contact Bobby D. Doctor, Director of the Southern Regional Office, 404-562-7000 (TDD 404-562-7004). Hearing-impaired persons who will attend the meeting and require the services of a sign language interpreter should contact the Regional Office at least ten (10) working days before the scheduled date of the meeting.

The meeting will be conducted pursuant to the provisions of the rules and regulations of the Commission.

Dated at Washington, DC, March 7, 2001.
Edward A. Hailes, Jr.,
General Counsel.

[FR Doc. 01-6631 Filed 3-16-01; 8:45 am]

BILLING CODE 6335-01-P